DEPARTMENT OF COMMERCE

Foreign-Trade Zones Board

[B-55-2016]

Foreign-Trade Zone (FTZ) 281—Miami, Florida; Authorization of Production Activity; Carrier InterAmerica Corporation (Heating, Ventilating and Air Conditioning Systems); Miami, Florida

On August 5, 2016, Miami-Dade County, grantee of FTZ 281, submitted a notification of proposed production activity to the FTZ Board on behalf of Carrier InterAmerica Corporation, within Site 3, in Miami, Florida.

The notification was processed in accordance with the regulations of the FTZ Board (15 CFR part 400), including notice in the Federal Register inviting public comment (81 FR 58472, August 25, 2016). The FTZ Board has determined that no further review of the activity is warranted at this time. The production activity described in the notification is authorized, subject to the FTZ Act and the Board's regulations, including Section 400.14.

Dated: December 5, 2016.
Andrew McGilvray,
Executive Secretary.

[FR Doc. 2016-29615 Filed 12-9-16; 8:45 am]

BILLING CODE 3510-DS-P